ENVIRONMENTAL PROTECTION AGENCY

40 CFR Part 52

[EPA-R09-OAR-2022-0795; FRL-10217-02-R9]

Determination To Defer Sanctions; California; Yolo-Solano Air Quality Management District

AGENCY: Environmental Protection Agency (EPA).

ACTION: Interim final determination.

SUMMARY: The Environmental Protection Agency (EPA) is making an interim final determination that the California Air Resources Board has submitted a revised rule on behalf of the Yolo-Solano Air Quality Management District (YSAQMD) that corrects a deficiency in its Clean Air Act (CAA or Act) State implementation plan (SIP) provisions concerning reasonably available control technology (RACT) ozone nonattainment requirements for controlling emissions of volatile organic compounds (VOC) from solvent cleaning and degreasing operations. This determination is based on a proposed approval, published elsewhere in this issue of the Federal Register, of YSAQMD's Rule 2.31, which regulates this source category. The effect of this interim final determination is that the imposition of sanctions that was triggered by a prior disapproval by the EPA, is now deferred. If the EPA finalizes its approval of YSAQMD 's submission, relief from these sanctions will become permanent.

DATES: This interim final determination is effective on December 13, 2022. However, comments must be received on or before January 12, 2023.

ADDRESSES: Submit your comments, identified by Docket ID No. EPA-R09-OAR-2022-0795 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets. If you need assistance in a language other than English or if you are a person with disabilities who needs a reasonable accommodation at no cost to you, please contact the person identified in the FOR FURTHER INFORMATION CONTACT section.

FOR FURTHER INFORMATION CONTACT: Arnold Lazarus, EPA Region IX, 75 Hawthorne St., San Francisco, CA 94105. By phone: (415) 972-3024 or by email at lazarus.arnold@epa.gov.

SUPPLEMENTARY INFORMATION: Throughout this document, “we,” “us,” and “our” refer to the EPA.

Table of Contents

I. Background

II. The EPA's Evaluation and Action

III. Statutory and Executive Order Reviews

I. Background

On July 30, 2021 (86 FR 40959), the EPA issued a rule promulgating a limited approval and limited disapproval for the YSAQMD rule listed in Table 1 that was submitted by the California Air Resources Board (CARB) to the EPA for inclusion into the California SIP.

Table 1—District Rule With Previous EPA Action
Rule No. | Rule title | Revised | Submitted | EPA action in 2021
2.31 | Solvent Cleaning and Degreasing | 11/2/2016 | 06/22/2017 | Limited Approval and Limited Disapproval.

Areas classified as Moderate nonattainment for an ozone standard must implement reasonably available control technology (RACT) for each category of sources covered by a Control Techniques Guidelines (CTG) document as well as each major source of VOCs in ozone nonattainment areas classified as Moderate or above (see CAA section 182(b)(2)). The YSAQMD area is classified as Severe nonattainment for the 2008 ozone national ambient air quality standard (NAAQS) and Moderate nonattainment for the 2015 ozone NAAQS.

In the 2021 final rule, we determined that the submitted YSAQMD rule included a deficiency that precluded our full approval of the rule into the SIP. YSAQMD's previously submitted Rule 2.31 exempted solvent degreasing operations subject to the National Emission Standards for Hazardous Air Pollutants (NESHAP) requirements of 40 CFR part 63 Subpart T—National Emission Standards for Halogenated Solvent Cleaning from the control requirements under the rule, which we found did not satisfy SIP requirements under CAA section 182(b)(2) because the RACT requirements for sources subject to the NESHAP requirements of 40 CFR Subpart T are not included in the SIP. Pursuant to section 179 of the CAA and our regulations at 40 CFR 52.31, the disapproval action on Rule 2.31 under title I, part D started a sanctions clock for imposition of offset sanctions 18 months after the action's effective date of August 30, 2021, and highway sanctions 6 months later.

On July 14, 2021, the YSAQMD revised Rule 2.31, and on July 18, 2022, CARB submitted the SIP revision to the EPA for approval into the California SIP as shown in Table 2 below.

Table 2—Submitted Rule
Rule No. | Rule title | Revised | Submitted
2.31 | Solvent Cleaning and Degreasing | 07/14/2021 | 07/18/2022

On September 30, 2022, the submittal for YSAQMD Rule 2.31 was determined to meet the completeness criteria in 40 CFR part 51 Appendix V, which must be met before formal EPA review.

The revised YSAQMD Rule 2.31 in Table 2 is intended to address the disapproval issues in our 2021 final rule. In the Proposed Rules section of this Federal Register, we have proposed approval of the revised YSAQMD Rule 2.31. Based on this proposed action approving Rule 2.31 into the California SIP, we are also making this interim final determination, effective on publication, to defer imposition of the offset sanctions and highway sanctions that were triggered by our 2021 final action on Rule 2.31, because we believe that the submittal corrects the deficiencies that triggered such sanctions.

The EPA is providing the public with an opportunity to comment on this deferral of sanctions. If comments are submitted that change our assessment described in this interim final determination and the proposed full approval of YSAQMD Rule 2.31, we would take final action to lift this deferral of sanctions under 40 CFR 52.31. If no comments are submitted that change our assessment, then all sanctions and any sanction clocks triggered by our 2021 final action would be permanently terminated on the effective date of our final approval of Rule 2.31.

II. The EPA's Evaluation and Action

We are making an interim final determination to defer the imposition of sanctions under CAA section 179 associated with our disapproval action on July 30, 2021, of YSAQMD's Rule 2.31 with respect to the requirements of part D of title I of the CAA. This determination is based on our concurrent proposed approval of Rule 2.31 which resolves the deficiency that triggered sanctions under section 179 of the CAA.

Because the EPA has preliminarily determined that YSAQMD's Rule 2.31 addresses the limited disapproval issue under part D of title I of the CAA identified in our 2021 final action and the rule is now fully approvable, relief from sanctions should be provided as quickly as possible. Therefore, the EPA is invoking the good cause exception under the Administrative Procedure Act (APA) in not providing an opportunity for comment before this action takes effect (5 U.S.C. 553(b)(3)). However, by this action, the EPA is providing the public with a chance to comment on the EPA's determination after the effective date, and the EPA will consider any comments received in determining whether to reverse such action.

The EPA believes that notice-and-comment rulemaking before the effective date of this action is impracticable and contrary to the public interest. The EPA has reviewed the State's submittal and, through its proposed action, is indicating that it is more likely than not that the State has submitted a revision to the SIP that corrects deficiencies under part D of the Act that were the basis for the action that started the sanctions clocks. Therefore, it is not in the public interest to impose sanctions. The EPA believes that it is necessary to use the interim final rulemaking process to defer sanctions while the EPA completes its rulemaking process on the approvability of the State's submittal. Moreover, with respect to the effective date of this action, the EPA is invoking the good cause exception to the 30-day notice requirement of the Administrative Procedures Act because the purpose of this notice is to relieve a restriction (5 U.S.C. 553(d)(1)).

III. Statutory and Executive Order Reviews

This action defers sanctions and imposes no additional requirements. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• The State did not evaluate environmental justice considerations as part of its SIP submittal. There is no information in the record inconsistent with the stated goals of E.O 12898 of achieving environmental justice for people of color, low-income populations, and indigenous peoples.

• Is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

• Is subject to the Congressional Review Act (CRA), 5 U.S.C. 801 et seq., and the EPA will submit a rule report to each House of the Congress and to the Comptroller General of the United States. The CRA allows the issuing agency to make a rule effective sooner than otherwise provided by the CRA if the agency makes a good cause finding that notice and comment rulemaking procedures are impracticable, unnecessary or contrary to the public interest (5 U.S.C. 808(2)). The EPA has made a good cause finding for this rule as discussed in section II of this preamble, including the basis for that finding.

Under section 307(b)(1) of the CAA, petitions for judicial review of this action must be filed in the United States Court of Appeals for the appropriate circuit by February 13, 2023. Filing a petition for reconsideration by the EPA Administrator of this final rule does not affect the finality of this rule for the purpose of judicial review nor does it extend the time within which petition for judicial review may be filed, and shall not postpone the effectiveness of such rule or action. This action may not be challenged later in proceedings to enforce its requirements (see CAA section 307(b)(2)).

List of Subjects in 40 CFR Part 52

Environmental protection, Air pollution control, Carbon monoxide, Incorporation by reference, Intergovernmental relations, Nitrogen oxides, Ozone, Particulate matter, Reporting and recordkeeping requirements.

Authority: 42 U.S.C. 7401 et seq.

Dated: December 4, 2022.
Martha Guzman Aceves,
Regional Administrator, Region IX.

[FR Doc. 2022-26764 Filed 12-12-22; 8:45 am]

BILLING CODE 6560-50-P